DEPARTMENT OF THE INTERIOR

Bureau of Land Management

[ES-915-1640-PM]

Notice of Temporary Closure for Maryland Point Property, Charles County, MD

AGENCY: Bureau of Land Management, Interior.

ACTION: Notice of temporary closure for Maryland Point Property, Charles County, Maryland.

SUMMARY: The Bureau of Land Management-Eastern States (BLM-ES) is temporarily closing the Maryland Point property formerly known as the Maryland Point Naval Observatory. This closure complies with the requirements of the Federal Land Policy and Management Act to provide for the safety of the public. The authority for this closure is found in 43 CFR 8364.1. The closure is necessary to protect the public from hazardous materials and conditions remaining from past military use.

DATES: This temporary closure will be effective the date this notice is published in the Federal Register and will continue until remediation of hazards are completed, and an Activity Plan for Maryland Point is completed and approved.

FOR FURTHER INFORMATION CONTACT: Gary Cooper, BLM-ES, Lower Potomac Field Station Manager, 10406 Gunston Road, Lorton, Virginia 22079, at (703) 339-8009.

SUPPLEMENTARY INFORMATION: The BLM-administered public lands affected by this closure total approximately 23 acres, more or less, and include the driveway from the gate on Maryland State Highway 224 and the fenced portion of the property.

Information as to when the area will no longer be closed to entry will be posted at the Lower Potomac Field Station at the address stated above. In addition, the BLM plans to announce the lifting of the closure through the media, including announcements in local newspapers. This former military installation has not been opened to the public in at least the last 30 years. No recreational activities have occurred at this property since the BLM acquired the property from the U.S. Navy in 2002, pending a study of the conditions at the site. This study is completed, and the hazards to the public are documented in a BLM contractor's report titled “Maryland Point Removal of Existing Structures Design.” The BLM is now seeking funds to remove hazardous materials at the site. Subsequently, an activity plan and Environmental Assessment will be completed to determine impacts to sensitive areas, habitat, and visitor safety. It is necessary that this area be closed until the hazards are remediated, and the activity plan is completed.

Prohibited Act: Under 43 CFR 8364.1 and 8360.0-7, the Bureau of Land Management is providing notice that no entry will be allowed to the closure area without risk of penalty.

Exemptions: Persons who are exempt from these rules include: any Federal, State or local office employee or volunteer in the scope of his or her duties; members of any organized rescue or fire-fighting force in performance of an official duty; contractors and their employees while engaged in official duty; and others authorized in writing by the Bureau of Land Management.

Penalties: Penalties for violating this closure notice are found in 43 CFR 8360.0-7. Any person who fails to comply with a closure order may be fined not more than $1,000 or imprisoned for no more than 12 months, or both.

Michael D. Nedd,
State Director, Eastern States.

[FR Doc. 05-20085 Filed 10-6-05; 8:45 am]

BILLING CODE 4310-DQ-U